DEPARTMENT OF HEALTH AND HUMAN SERVICES

Indian Health Service

Behavioral Health Integration Initiative (BH2I); Extension of Due Dates

AGENCY: Indian Health Service, HHS.

ACTION: Notice; extension of due dates.

SUMMARY: The Indian Health Service published a notice in the Federal Register (FR) on August 14, 2017, for the Fiscal Year 2017 Behavioral Health Integration Initiative (BH2I), Funding Announcement Number: HHS-2017-IHS-BH2I-0001. Several Key Dates have been modified.

FOR FURTHER INFORMATION CONTACT: Paul Gettys, Grant Systems Coordinator, 5600 Fishers Lane, Mail Stop: 09E70, Rockville, MD 20857, Phone: (301) 443-2114; or the Division of Grants Management (301) 443-5204, or Fax: (301) 594-0899.

Correction

In the FR notice of August 14, 2017, (FR 2017-17103), the corrections are made:

On page 37870, in the first column, under the heading Key Dates, the correction for Application Deadline Date, Review Date, Earliest Anticipated Start Date, Signed Tribal Resolutions Due Date, and Proof of Non-Profit Status Due Date should read as:

• Application Deadline Date: September 18, 2017.

• Review Date: September 19, 2017.

• Earliest Anticipated Start Date: September 30, 2017.

• Signed Tribal Resolutions Due Date: September 18, 2017.

• Proof of Non-Profit Status Due Date: September 18, 2017.

Dated: September 29, 2017.
Michael D. Weahkee,
RADM, Assistant Surgeon General, U.S. Public Health Service, Acting Director, Indian Health Service.

[FR Doc. 2017-21796 Filed 10-10-17; 8:45 am]

BILLING CODE 4165-16-P